DEPARTMENT OF ENERGY

Federal Energy Regulatory Commission

[Docket No. ER04-509-005, et al.]

Delmarva Power & Light Company, et al.; Electric Rate and Corporate Filings

May 3, 2005.

The following filings have been made with the Commission. The filings are listed in ascending order within each docket classification.

1. Delmarva Power & Light Company and PJM Interconnection, LLC

[Docket Nos. ER04-509-005, ER04-1250-004, and EL05-62-002]

Take notice that on April 26, 2005, Delmarva Power & Light Company (Delmarva) submitted seven executed Mutual Operating Agreements (MOA) with, respectively: the City of Seaford, Delaware; the City of Milford, Delaware; the City of Newark, Delaware; the City of New Castle, Delaware; the Town of Middletown, Delaware; the Town of Clayton, Delaware; and the Town of Smyrna, Delaware as service agreements under PJM Interconnection, LLC's (PJM) open access transmission tariff in compliance with the order issued February 25, 2005 by the Commission in Delmarva Power & Light Co., 110 FERC ¶ 61,186 (2005). Delmarva requests an effective date of July 1, 2004.

Delmarva states that copies of the filing were served upon the Municipalities, PJM Interconnection, L.L.C., Delaware Municipal Electric Corporation, the Delaware Public Service Commission and the official service list in these proceedings.

Comment Date: 5 p.m. eastern time on May 17, 2005.

2. American Electric Power Service Corporation

[Docket Nos. ER04-1003-004, ER04-1007-004 ER05-392-001, ER05-394-001, ER05-420-001, ER05-432-001, ER05-450-001]

Take notice that on April 26, 2005, American Electric Power Service Corporation (AEPSC) on behalf of the AEP operating companies in its East Zone, (namely Appalachian Power Company, Columbus Southern Power Company, Indiana Michigan Power Company, Kentucky Power Company, Kingsport Power Company, Ohio Power Company, and Wheeling Power Company) submitted a compliance filing pursuant to the Commission's Order issued February 25, 2005 in Docket No. ER04-1003-002, et al., 110 FERC ¶ 61,197 (2005).

AEPSC states that copies of the filing were served on all parties on the official service lists in the above-captioned proceedings.

Comment Date: 5 p.m. eastern time on May 17, 2005.

3. Duke Energy Lee, LLC

[Docket No. ER04-641-004]

Take notice that, on April 26, 2005, Duke Energy Lee, LLC submitted a refund report pursuant to the order issued January 25, 2005 in Duke Energy Lee, LLC, 110 FERC ¶ 61,057 (2005).

Duke Energy Lee, LLC states that copies of the filing were served on parties on the official service list in the above captioned proceeding and upon the Illinois Commerce Commission.

Comment Date: 5 p.m. eastern time on May 17, 2005.

4. Midwest Independent Transmission System Operator, Inc. (Docket Nos. ER05-6-001, -002, -003, -005, -007, -009, -013); Midwest Independent Transmission System Operator, Inc. and PJM Interconnection, LLC, et al. (Docket Nos. EL04-135-003, -004, -005, -007, -009, -011, -015); Midwest Independent Transmission System Operator, Inc. and PJM Interconnection, LLC, et al. (Docket Nos. EL02-111-020, -021, -022, -024, -026, -028, -031, -033); Ameren Services Company, et al. (Docket No. EL03-212-017, -018, -019, -021, -023, -025, -029)

Take notice that on April 26, 2005, PJM Interconnection, L.L.C. (PJM) and the Midwest Independent System Operator, Inc. (Midwest ISO) submitted a certification to the Commission that they are ready to bill and settle Seams Elimination Charge/Cost Adjustments/Assignments (SECA) payments to the PJM Transmission Owners and the Midwest ISO Transmission Owners with the April 2005 (issued and settled in May 2005) invoice for April service. PJM and Midwest ISO state that the certification is made in accordance with the filing made by PJM and the PJM Transmission Owners on November 24, 2005 in compliance with the Commission's November 18, 2004 order, 109 FERC ¶ 61,168 (2004).

Comment Date: 5 p.m. eastern time on May 17, 2005.

5. Midwest Independent Transmission System Operator, Inc. and Ameren Services Co., et al.

[Docket Nos. ER05-6-019, EL04-135-021, EL02-111-039, EL03-212-035]

Take notice that on April 26, 2005, the Midwest Independent Transmission System Operator, Inc. (Midwest ISO) and Midwest ISO Transmission Owners (collectively Applicants) jointly submitted for filing revisions to Schedule 22 of the Midwest ISO Open Access Transmission and Energy Markets Tariff in compliance with the Commission's November 18, 2004 Order in Docket No. ER05-6-000, et al., Midwest Independent Transmission System Operator, Inc. 109 FERC ¶ 61,168 (2004) to reflect recent revisions in the PJM Interconnection, L.L.C. (PJM) transmission owners lost revenues as shown for the first time in the PJM transmission owners' March 22, 2005 filing, as amended on March 25, 2005, in Docket Nos. ER05-6-016, EL04-135-018, EL02-111-036 and EL03-212-032.

Applicants state that copies of the filing were served on parties on the official service list in the above-captioned proceeding.

Comment Date: 5 p.m. eastern time on May 17, 2005.

6. Barrick Goldstrike Mines Inc.

[Docket No. ER05-665-001]

Take notice that on April 26, 2005, Barrick Goldstrike Mines Inc. (Barrick) submitted an amended application for an order accepting its proposed market-based rate tariff and granting certain blanket authorizations and waivers of the Commission's regulations. Barrick's original application was filed on March 2, 2005 and was assigned Docket No. ER05-665-000.

Comment Date: 5 p.m. eastern time on May 17, 2005.

7. San Diego Gas & Electric Company

[Docket No. ER05-839-000]

Take notice that on April 26, 2005, San Diego Gas & Electric Company (SDG&E) submitted a request to withdraw their April 19, 2005 filing in Docket No. ER05-839-000.

Comment Date: 5 p.m. eastern time on May 17, 2005.

8. Tampa Electric Company

[Docket No. ER05-857-000]

Take notice that on April 22, 2005, Tampa Electric Company (Tampa Electric) filed a notice pursuant to the order issued March 30, 2005 in North American Electric Reliability Council, 110 FERC ¶ 61,388, stating that: (1) It uses the North American Electric Reliability Council's (NERC's) revised transmission loading relief (TLR) procedures; and (2) its open access transmission tariff (OATT) shall be considered so modified. Tampa Electric also tendered for filing First Revised Sheet No. 121, which updates the notice concerning use of the NERC TLR procedures in the OATT. Tampa Electric requests an effective date of April 1, 2005.

Tampa Electric states that copies of the filing have been served on all persons on the service list in Docket No. ER05-580-000, all customers under Tampa Electric's OATT, and the Florida Public Service Commission.

Comment Date: 5 p.m. Eastern Time on May 13, 2005.

9. Puget Sound Energy, Inc.

[Docket No. ER05-861-000]

Take notice that on April 26, 2005, Puget Sound Energy, Inc. (Puget) filed with the Commission an amendment to the agreement for a Temporary Puget Sound Area and Northern Intertie Redispatch Pilot Program (PSANI Agreement), which establishes a temporary, voluntary redispatch program on the Federal Columbia River Transmission System. Puget states that the amendment extends the termination date of the PSANI Agreement until October 31, 2005. Puget requests an effective date of April 1, 2005.

Comment Date: 5 p.m. eastern time on May 17, 2005.

10. Midwest Independent Transmission System Operator, Inc.

[Docket No. ER05-864-000]

Take notice that on April 26, 2005, the Midwest Independent Transmission System Operator, Inc. (Midwest ISO) submitted a large generator interconnection agreement among Forward Energy LLC, American Transmission Company LLC and the Midwest ISO.

The Midwest ISO states that a copy of the filing was served on the parties to the Interconnection Agreement.

Comment Date: 5 p.m. eastern time on May 17, 2005.

11. Southern California Edison Company

[Docket No. ER05-866-000]

Take notice that on April 26, 2005, Southern California Edison Company (SCE) submitted for filing an Interconnection Facilities Agreement (Interconnection Agreement), Service Agreement No. 135 under SCE's Wholesale Distribution Access Tariff (WDAT), FERC Electric Tariff, First Revised Volume No. 5 and an associated Service Agreement for Wholesale Distribution Service (WDAT Service Agreement), Service Agreement No. 136 under the WDAT, between SCE and the Blacksand Partners, L.P. (Blacksand). SCE states that the Interconnection Agreement and the Service Agreement specify the terms and conditions under which SCE will provide wholesale Distribution Service for approximately 5.6 MW produced by the Blacksand Project and delivered to the ISO Grid at SCE's Olinda Substation.

SCE states that copies of this filing were served upon the Public Utilities Commission of the State of California, and Blacksand.

Comment Date: 5 p.m. eastern time on May 17, 2005.

12. PJM Interconnection, L.L.C.

[Docket No. ER05-867-000]

Take notice that on April 26, 2005, PJM Interconnection, L.L.C. (PJM), submitted for filing amendments to Schedule 12 of the Amended and Restated PJM Operating Agreement (Operating Agreement) to update the PJM Member List to include new members, corporate name changes, and withdrawn members. Pursuant to section 35.15 of the Commission's regulations, 18 CFR 35.15, and sections 4.1(c) and 18.18.2 of the Operating Agreement, PJM also submits for filing notice that several entities have withdrawn their memberships in PJM and a notice of cancellations for the Additional Member Agreements that have FERC Rate Schedule designations and are being cancelled due to the PJM member withdrawals.

PJM states that copies of this filing were served electronically upon all PJM members, including the withdrawing parties, and each state electric utility regulatory commission in the PJM region, and requests waiver of the Commission's tariff-change posting requirements as necessary to permit such electronic service. PJM states that it shall serve by first class mail postage prepaid the entities that have withdrawn from PJM membership.

Comment Date: 5 p.m. eastern time on May 17, 2005.

13. ISO New England Inc. and New England Power Pool Participants Committee

[Docket No. ER05-870-000]

Take notice that on April 26, 2005, ISO New England Inc. (ISO) and the New England Power Pool (NEPOOL) Participants Committee submitted an application pursuant to section 205 of the Federal Power Act to revise Market Rule 1 and Appendix F thereto to add provisions for Minimum Generation Emergency Credits and Charges.

The ISO and NEPOOL state that copies of the filing have been served on all NEPOOL Participants, and the Governors and utility regulatory agencies of the New England States.

Comment Date: 5 p.m. eastern time on May 16, 2005.

14. Aquila, Inc.

[Docket Nos. ER05-871-000, ER05-872-000, ER05-873-000, ER05-874-000]

Take notice that on April 26, 2005, Aquila, Inc., on behalf of its operating divisions, Aquila Networks-MPS, Aquila Networks-WPC, Aquila Networks-WPK and Aquila Networks-L&P, (collectively, Aquila) submitted new and revised tariff sheets for each of its four Open Access Transmission Tariffs (OATTs) to incorporate the pro forma large generator interconnection procedures, without modification, in compliance with the Commission's Order Nos. 2003, 2003-A and 2003-B. Aquila states that it also republished each of the OATTs, in their entirety, as revised volumes to update the OATTs to reflect Aquila's correct corporate names and to comply with the requirements of Order No. 614 regarding Designation of Electric Rate Schedule Sheets.

Aquila states that copies of the filing have been mailed to its OATT customers, the Colorado Public Utilities Commission, the Kansas State Corporation Commission and the Missouri Public Service Commission.

Comment Date: 5 p.m. eastern time on May 17, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2267 Filed 5-9-05; 8:45 a.m.]

BILLING CODE 6717-01-P